DEPARTMENT OF TRANSPORTATION

Federal Aviation Administration

14 CFR Part 39

[Docket No. FAA-2014-0142; Directorate Identifier 2012-NM-161-AD; Amendment 39-18093; AD 2015-02-24]

RIN 2120-AA64

Airworthiness Directives; Airbus Airplanes

AGENCY: Federal Aviation Administration (FAA), Department of Transportation (DOT).

ACTION: Final rule.

SUMMARY: We are superseding Airworthiness Directive (AD) 2007-03-18, AD 2008-17-02, AD 2012-08-03, and AD 2012-15-14, for certain Airbus Model A300 B4-2C, B4-103, and B4-203 airplanes; Model A300 B4-600, B4-600R, and F4-600R series airplanes, and Model A300 C4-605R Variant F airplanes (collectively called Model A300-600 series airplanes); and Model A310 series airplanes. AD 2007-03-18, AD 2008-17-02, AD 2012-08-03, and AD 2012-15-14 required repetitive inspections of the forward lugs of the aft bearing at rib 5 of the main landing gear (MLG) on the left-hand (LH) and right-hand (RH) wings, and repair if necessary; and installation of new bushes with increased interference fit in the forward lug of the aft bearing at rib 5 of the MLG on the LH and RH wings. This new AD adds airplanes to the applicability; and adds, for certain airplanes, repetitive inspections of the MLG rib 5 aft bearing forward lugs, and repair if necessary. This AD was prompted by reports of cracking in the forward lug of the MLG rib 5 aft bearing attachment. We are issuing this AD to detect and correct cracking of the forward lugs of the aft bearing at rib 5 of the MLG on the LH and RH wings, which could affect the structural integrity of the MLG attachment, resulting in possible MLG collapse during landing or rollout.

DATES: This AD becomes effective March 17, 2015.

The Director of the Federal Register approved the incorporation by reference of certain publications listed in this AD as of March 17, 2015.

The Director of the Federal Register approved the incorporation by reference of certain other publications listed in this AD as of September 11, 2012 (77 FR 46937, August 7, 2012).

The Director of the Federal Register approved the incorporation by reference of certain other publications listed in this AD as of May 29, 2012 (77 FR 24367, April 24, 2012).

The Director of the Federal Register approved the incorporation by reference of certain other publications listed in this AD as of September 17, 2008 (73 FR 47032, August 13, 2008).

The Director of the Federal Register approved the incorporation by reference of certain other publications listed in this AD as of February 6, 2007 (72 FR 2612, January 22, 2007).

ADDRESSES: You may examine the AD docket on the Internet at http://www.regulations.gov/#!docketDetail;D=FAA-2014-0142; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0142.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2008-17-02, Amendment 39-15640 (73 FR 47032, August 13, 2008); AD 2012-08-03, Amendment 39-17019 (77 FR 24367, April 24, 2012); and AD 2012-15-14, Amendment 39-17143 (77 FR 46937, August 7, 2012). AD 2008-17-02, AD 2012-08-03, and AD 2012-15-14, applied to certain Airbus Model A300 B4-2C, B4-103, and B4-203 airplanes; Model A300 B4-600, B4-600R, and F4-600R series airplanes, and Model A300 C4-605R Variant F airplanes (collectively called Model A300-600 series airplanes); and Model A310 series airplanes. The NPRM published in the Federal Register on March 12, 2014 (79 FR 13938).

The European Aviation Safety Agency (EASA), which is the Technical Agent for the Member States of the European Union, has issued EASA Airworthiness Directive 2012-0176, dated September 7, 2012, corrected September 20, 2012 (referred to after this as the Mandatory Continuing Airworthiness Information, or “the MCAI”), to correct an unsafe condition for the specified products. The MCAI states:

Several cases of corrosion of the Main Landing Gear (MLG) Rib 5 aft fitting forward lug have been reported on A310 family aeroplanes. In some instances, corrosion pits caused the cracking of the forward lug.

This condition, if not detected and corrected, may lead to the complete failure of the fitting and thus could affect the structural integrity of the MLG installation.

EASA ADs 2006-0372R1 (http://ad.easa.europa.eu/blob/easa_ad_2006_0372_R1_superseeded.pdf/AD_2006-0372R1_1), 2007-0195 (http://ad.easa.europa.eu/blob/easa_ad_2007_0195_superseded.pdf/AD_2007-0195_1) [which corresponds with FAA AD 2008-17-02, Amendment 39-15640 (73 FR 47032, August 13, 2008)], 2010-0250 (http://ad.easa.europa.eu/blob/easa_ad_2010_0250_superseded.pdf/AD_2010-0250_1) [which corresponds with FAA AD 2012-15-14, Amendment 39-17143 (77 FR 46937, August 7, 2012)] and 2010-0251 (http://ad.easa.europa.eu/blob/easa_ad_2010_0251_superseded.pdf/AD_2010-0251_1) [which corresponds with FAA AD 2012-08-03, Amendment 39-17019 (77 FR 24367, April 24, 2012)] were issued to address this condition and required a repetitive inspection programme of the MLG Rib 5 fitting forward lugs and, as terminating action, the embodiment of mandatory design change (bushes with increased interference fit).

MLG Rib 5 forward lug on A320 family aeroplanes is a similar design to the A300/A300-600/A310 family. Since those [EASA] ADs were issued, on two A321 aeroplanes, post modification (bushes with increased interference fit) MLG Rib 5 forward lugs were reportedly found ruptured. One other case was due to a sealant discrepancy that led to water ingress and consequently corrosion initiation, leading to cracking. Subsequent investigation results have shown that a remaining defect, not removed during the repair, had propagated, resulting in rupture of the lug.

For the reasons stated above, this new [EASA] AD retains the requirements of EASA ADs 2006-0372R1, 2007-0195, 2010-0250 and 2010-0251, which are superseded, expands the applicability to all models and series of A300, A310, A300-600 and A300-600ST aeroplanes, and requires:

—For aeroplanes not yet modified or repaired, implementation of Modification Service Bulletin (SB) A300-57-0249, A310-57-2090, A300-57-6106, or A300-57-9019, all at Revision 3, and

—for aeroplanes which already embody that modifications, at original issue or revision 01 or 02 of the applicable SB, or have MLG Ribs already repaired in accordance with Airbus repair instruction R57240221 or R57249121, implementation of an additional inspection programme [repetitive detailed inspection for cracking or ultrasonic inspections for any crack indication] and associated corrective action(s) [detailed inspection for cracking if any crack indication found, and repair].

The unsafe condition is cracking of the forward lugs of the aft bearing at rib 5 of the MLG on the LH and RH wings, which could affect the structural integrity of the MLG attachment, resulting in possible MLG collapse during landing or rollout.

You may examine the MCAI in the AD docket on the Internet at http://www.regulations.gov/#!documentDetail;D=FAA-2014-0142-0002.

Comments

We gave the public the opportunity to participate in developing this AD. The following presents the comments received on the NPRM (79 FR 13938, March 12, 2014) and the FAA's response to each comment.

Request To Withdraw the NPRM (79 FR 13938, March 12, 2014)

United Parcel Service (UPS) requested that we withdraw the NPRM (79 FR 13938, March 12, 2014) and focus on airplanes that have been serviced at the facilities where the two airplanes specified in the Discussion section of the NPRM had been reworked. UPS stated that both events are the result of an operator not following procedures.

We disagree with the commenter's request to withdraw the NPRM (79 FR 13938, March 12, 2014). This issue concerns more than one operator and airplane model. We have no data indicating that these events are definitively limited to just one repair station or operator. Therefore, the unsafe condition may exist on other airplanes of a similar type design. Consequently, the actions required by this final rule must be done for airplanes identified in paragraph (c) of this AD. We have not changed this AD in this regard.

Request To Revise Post-Modification Repetitive Inspection

UPS requested that we revise the post-modification repetitive inspections to a one-time inspection. UPS stated that it does not believe that the root cause of the reported events is addressed in the NPRM (79 FR 13938, March 12, 2014). UPS explained that the primary focus of Airbus Mandatory Service Bulletin A300-57-6106, Revision 03, dated January 26, 2012, and the incident investigation is on sealing and protection in the bushing head area. UPS stated that the only difference between the sealing process of Airbus Mandatory Service Bulletin A300-57-6106, Revision 03, dated January 26, 2012, and prior service bulletin revision levels, is the application of a single coat of polyurethane paint applied over the fillet seal around the bushing flange. UPS explained that, based on a process review of Airbus Service Bulletin A300-57-6106 and the failure analysis results from the two post-modification reported events, it concurs that a post-modification check of the modification integrity is valid; however, the post-modification repetitive inspection should be a one-time inspection to verify proper accomplishment of the rework process.

We disagree with the commenter's request to revise the post-modification repetitive inspections to a one-time inspection. The corresponding MCAI specifies that the inspection be repeated; FAA ADs match the MCAI requirements if the MCAI provides an adequate level of safety and does not conflict with FAA policies. The sealing process could be compromised over time. Thus a repetitive inspection is considered necessary to ensure that corrosion will not occur and to ensure the structural integrity of the MLG rib 5. However, under the provisions of paragraph (aa) of this AD, we might approve requests for adjustments to the compliance time if data are submitted to substantiate that such an adjustment would provide an acceptable level of safety. We have not changed this AD in this regard.

Request To Supersede AD 2007-03-18, Amendment 39-14929 (72 FR 5919, February 8, 2007)

UPS requested that we revise the wording in paragraph (o) of the NPRM (79 FR 13938, March 12, 2014) to terminate the inspections required by AD 2007-03-18, Amendment 39-14929 (72 FR 5919, February 8, 2007); and to add AD 2007-03-18 to the list of superseded ADs in paragraph (b)(1) of the NPRM. UPS stated that it believes the intent of paragraph (g) of AD 2012-15-14, Amendment 39-17143 (77 FR 46937, August 7, 2012), was to terminate the AD 2007-03-18 inspection requirements upon initiation of inspections as described in Airbus Mandatory Service Bulletin A300-57-6107, including Appendix 01, dated August 8, 2007.

We agree with the commenter's request to add AD 2007-03-18, Amendment 39-14929 (72 FR 5919, February 8, 2007), to the list of superseded ADs in this final rule. We have revised paragraph (b) of this AD by removing paragraph (b)(2) of the NPRM (79 FR 13938, March 12, 2014); re-designating paragraph (b)(1) of the NPRM as paragraph (b) of this AD; adding new paragraph (b)(1) to this AD, which adds AD 2007-03-18 to the list of superseded ADs in this AD; and re-designating paragraphs (b)(1)(i) through (b)(1)(iii) of the NPRM as paragraphs (b)(2) through (b)(4) of this AD, respectively.

Request To Remove Repair Approval Requirement

UPS requested that we remove the statement “For a repair method to be approved, the repair approval must specifically refer to this AD” in paragraph (x) of the NPRM (79 FR 13938, March 12, 2014). UPS acknowledged that the rules governing the AD repair and deviation approval process for foreign-manufactured aircraft differ from domestic-built airplanes. UPS recommended that the FAA meet with U.S. operators of foreign-built airplanes to discuss concerns about repair instructions being used that might not fully address the unsafe condition and to review options to alleviate those concerns.

We concur with the commenter's request to remove from this final rule the requirement that repair approvals must specifically refer to this AD. Our responses to specific aspects of this request are presented as follows.

Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 13938, March 12, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include “the Design Approval Holder (DAH) with State of Design Authority's design organization approval” to refer to a DAH authorized to approve required repairs for the proposed AD.

UPS also commented on an NPRM having Directorate Identifier 2012-NM-101-AD (78 FR 78285, December 26, 2013). UPS stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility afforded previously by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM having Directorate Identifier 2012-NM-101-AD (78 FR 78285, December 26, 2013) pointed out that, in many cases, the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in the AD. Any such requirements will be adopted through the normal AD rulemaking process, including notice-and-comment procedures, when appropriate.

We have also decided not to include a generic reference to either the “delegated agent” or the “DAH with State of Design Authority design organization approval,” but instead we will provide the specific delegation approval granted by the State of Design Authority for the DAH.

Change to Paragraph (h)(3) of This AD

We removed a requirement to use the latest revision of certain service information, which appeared as the last sentence at the end of paragraph (h)(3) of the NPRM (79 FR 13938, March 12, 2014). That requirement already appears in paragraph (h)(2) of this AD.

Conclusion

We reviewed the available data, including the comments received, and determined that air safety and the public interest require adopting this AD with the changes described previously and minor editorial changes. We have determined that these changes:

• Are consistent with the intent that was proposed in the NPRM (79 FR 13938, March 12, 2014) for correcting the unsafe condition; and

• Do not add any additional burden upon the public than was already proposed in the NPRM (79 FR 13938, March 12, 2014).

We also determined that these changes will not increase the economic burden on any operator or increase the scope of this AD.

Related Service Information Under 1 CFR Part 51

We reviewed the following service bulletins.

Airbus Service Bulletin A300-57-0255, including Inspection Reporting Form, dated January 13, 2012. The service information describes procedures for inspections of the forward lugs of the aft bearing at rib 5 of the MLG on the LH and RH wings.

Airbus Service Bulletin A300-57-6112, including Inspection Reporting Form, dated January 13, 2012. The service information describes procedures for inspections of the forward lugs of the aft bearing at rib 5 of the MLG on the LH and RH wings.

Airbus Service Bulletin A310-57-2090, Revision 02, dated June 18, 2010. The service information describes procedures for installation of new bushes with increased interference fit in the forward lug of the aft bearing at rib 5 of the MLG on the LH and RH wings.

Airbus Service Bulletin A310-57-2101, including Inspection Reporting Form, dated January 13, 2012. The service information describes procedures for inspections of the forward lugs of the aft bearing at rib 5 of the MLG on the LH and RH wings.

This service information is reasonably available; see ADDRESSES for ways to access this service information.

Costs of Compliance

We estimate that this AD affects 194 airplanes of U.S. registry.

The actions that are required by AD 2008-17-02, Amendment 39-15640 (73 FR 47032, August 13, 2008), and retained in this AD take about 5 work-hours per product, at an average labor rate of $85 per work-hour. Based on these figures, the estimated cost of the actions that were required by AD 2008-17-02 is $425 per product.

The actions that are required by AD 2012-08-03, Amendment 39-17019 (77 FR 24367, April 24, 2012), and retained in this AD take about 38 work-hours per product, at an average labor rate of $85 per work-hour. Required parts cost about $4,590 per product. Based on these figures, the estimated cost of the actions that were required by AD 2012-08-03 is $7,820 per product.

The actions that are required by AD 2012-15-14, Amendment 39-17143 (77 FR 46937, August 7, 2012), and retained in this AD take about 3 work-hours per product, at an average labor rate of $85 per work-hour. Based on these figures, the estimated cost of the actions that were required by AD 2012-15-14 is $255 per product.

We also estimate that it would take about 3 work-hours per product to comply with the basic requirements of this AD. The average labor rate is $85 per work-hour. Based on these figures, we estimate the cost of this AD on U.S. operators to be $49,470, or $255 per product.

We have received no definitive data that would enable us to provide cost estimates for the on-condition actions specified in this AD. We have no way of determining the number of products that may need these actions.

According to the manufacturer, some of the costs of this AD may be covered under warranty, thereby reducing the cost impact on affected individuals. We do not control warranty coverage for affected individuals. As a result, we have included all costs in our cost estimate.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave., SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0142; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-03-18, Amendment 39-14929 (72 FR 5919, February 8, 2007); AD 2008-17-02, Amendment 39-15640 (73 FR 47032, August 13, 2008); AD 2012-08-03, Amendment 39-17019 (77 FR 24367, April 24, 2012); and AD 2012-15-14, Amendment 39-17143 (77 FR 46937, August 7, 2012); and adding the following new AD:

2015-02-24 Airbus: Amendment 39-18093. Docket No. FAA-2014-0142; Directorate Identifier 2012-NM-161-AD.

(a) Effective Date

This AD becomes effective March 17, 2015.

(b) Affected ADs

This AD replaces the ADs specified in paragraphs (b)(1) through (b)(4) of this AD.

(1) AD 2007-03-18, Amendment 39-14929 (72 FR 5919, February 8, 2007).

(2) AD 2008-17-02, Amendment 39-15640 (73 FR 47032, August 13, 2008).

(3) AD 2012-08-03, Amendment 39-17019 (77 FR 24367, April 24, 2012).

(4) AD 2012-15-14, Amendment 39-17143 (77 FR 46937, August 7, 2012).

(c) Applicability

This AD applies to the Airbus airplanes identified in paragraphs (c)(1) and (c)(2) of this AD, certificated in any category, all manufacturer serial numbers.

(1) Airbus Model A300 B2-1A, B2-1C, B2K-3C, and B2-203 airplanes; Model A300 B4-2C, B4-103, and B4-203 airplanes; Model A300 B4-601, B4-603, B4-620, B4-622, B4-605R, B4-622R, F4-605R, and F4-622R airplanes; and Model A300 C4-605R Variant F airplanes.

(2) Airbus Model A310-203, -204, -221, -222, -304, -322, -324, and -325 airplanes.

(d) Subject

Air Transport Association (ATA) of America Code 57, Wings.

(e) Reason

This AD was prompted by reports of cracking in the forward lug of the main landing gear (MLG) rib 5 aft bearing attachment. We are issuing this AD to detect and correct cracking of the forward lugs of the aft bearing at rib 5 of the MLG on the left-hand (LH) and right-hand (RH) wings, which could affect the structural integrity of the MLG attachment, resulting in possible MLG collapse during landing or rollout.

(f) Compliance

Comply with this AD within the compliance times specified, unless already done.

(g) Retained Repetitive Detailed Inspection and Corrective Actions

This paragraph restates the requirements of paragraph (f) of AD 2008-17-02, Amendment 39-15640 (73 FR 47032, August 13, 2008). For Model A310 airplanes, except for those where LH and RH wing MLG rib 5 forward lugs have been repaired by installation of oversized interference fit bushes as per Airbus A310 Repair Instruction R572-49121, or which have had Airbus Service Bulletin A310-57-2090 (Airbus Modification 13329) embodied in service: Do the actions specified in paragraphs (g)(1), (g)(2), and (g)(3) of this AD, in accordance with the Accomplishment Instructions of Airbus Service Bulletin A310-57A2088, dated November 6, 2006.

(1) Before the accumulation of 12,000 total flight cycles, or within 14 days after February 6, 2007 (the effective date of AD 2007-02-09, Amendment 39-14896 (72 FR 2612, January 22, 2007)), whichever occurs later: Perform a detailed visual inspection of the LH and RH wing MLG rib 5 aft bearing forward lugs.

(2) If any crack is detected at LH and/or RH aft bearing forward lug, contact Airbus and proceed with the replacement before next flight.

(3) Repeat the inspection at intervals not exceeding 100 flight cycles.

(h) Retained Actions and Compliance

This paragraph restates the requirements of paragraph (g) of AD 2008-17-02, Amendment 39-15640 (73 FR 47032, August 13, 2008), with new service information for paragraphs (h)(2), (h)(3), and (h)(4)(ii) of this AD, and specific delegation approval language in paragraphs (h)(3) and (h)(4)(ii) of this AD. For Model A310 airplanes, except for those where LH and RH wing MLG rib 5 forward lugs have been repaired by installation of oversized interference fit bushes as per Airbus A310 Repair Instruction R572-49121, or which have had Airbus Service Bulletin A310-57-2090 (Airbus Modification 13329) embodied in service: Before the accumulation of 12,000 total flight cycles or before the accumulation of 12,000 flight cycles on MLG rib 5, or within 14 days after September 17, 2008 (the effective date of AD 2008-17-02), whichever occurs latest, perform either a detailed visual inspection (DVI) or an ultrasonic inspection of the LH and RH MLG rib 5 aft bearing forward lug for cracks, in accordance with the Accomplishment Instructions of Airbus Service Bulletin A310-57-2091, excluding Appendix 01, dated May 22, 2007. If a MLG rib 5 has been replaced on one side only, then the LH and RH must be considered separately. Doing this inspection ends the requirements of paragraph (g) of this AD for that MLG rib 5 only.

(1) If no crack is detected during any inspection required by paragraph (h) of this AD: Repeat the applicable inspection at the time specified in paragraph (h)(1)(i) or (h)(1)(ii) of this AD.

(i) Repeat the DVI thereafter at intervals not to exceed 100 flight cycles.

(ii) Repeat the ultrasonic inspection thereafter at intervals not to exceed 825 flight cycles.

(2) Replacement of the MLG rib 5 bushes with new bushes with high interference fit in the aft bearing forward lugs of MLG rib 5, in accordance with the Accomplishment Instructions of a service bulletin specified in paragraph (h)(2)(i), (h)(2)(ii), or (h)(2)(iii) of this AD, ends the repetitive inspections required by paragraph (h)(1) of this AD for that MLG rib 5 only. As of the effective date of this AD, use only Airbus Mandatory Service Bulletin A310-57-2090, Revision 03, dated January 23, 2012, for the actions specified in this paragraph.

(i) Airbus Service Bulletin A310-57-2090, Revision 01, dated December 19, 2007.

(ii) Airbus Mandatory Service Bulletin A310-57-2090, Revision 02, dated June 18, 2010.

(iii) Airbus Mandatory Service Bulletin A310-57-2090, Revision 03, dated January 23, 2012.

(3) If any crack is detected during the DVI required by paragraph (h) of this AD: Before further flight, contact Airbus for replacement instructions and replace the MLG rib 5 bushes before further flight. As of the effective date of this AD: Before further flight, replace using a method approved by the Manager, International Branch, ANM-116, Transport Airplane Directorate, FAA; or the European Aviation Safety Agency (EASA); or Airbus's EASA Design Organization Approval (DOA). Repeat the applicable inspection in paragraph (h) of this AD at the time specified in paragraph (h)(1)(i) or (h)(1)(ii) of this AD. Accomplishing the replacement of the MLG rib 5 bushes with new bushes with high interference fit in the aft bearing forward lugs of MLG rib 5, in accordance with the Accomplishment Instructions of a service bulletin specified in paragraph (h)(2)(i), (h)(2)(ii), or (h)(2)(iii) of this AD, ends the repetitive inspections required by paragraph (h)(1) of this AD for that MLG rib 5 only.

(4) If any crack is detected during the ultrasonic inspection required by paragraph (h) of this AD, before further flight, accomplish the actions specified in paragraph (h)(4)(i) or (h)(4)(ii) of this AD, as applicable.

(i) If any crack is not visible on MLG rib 5: Before further flight, repair MLG rib 5 using Airbus A310 Repair Instruction R572-49121, Issue C, dated May 2007. After embodiment of the repair instruction, no further actions are necessary as required by paragraphs (g) and (h) of this AD and specified in Airbus Service Bulletin A310-57-2091, excluding Appendix 01, dated May 22, 2007, for that MLG rib 5 only.

(ii) If any crack is visible on MLG rib 5: Before further flight, contact Airbus for rib replacement instructions, and replace before further flight. As of the effective date of this AD: Before further flight, replace using a method approved by the Manager, International Branch, ANM-116, Transport Airplane Directorate, FAA; or the EASA; or Airbus's EASA DOA. Repeat the applicable inspection in paragraph (h) of this AD at the time specified in paragraph (h)(1)(i) or (h)(1)(ii) of this AD. Accomplishing the replacement of the MLG rib 5 bushes with new bushes with high interference fit in the aft bearing forward lugs of MLG rib 5, in accordance with the Accomplishment Instructions of a service bulletin specified in paragraph (h)(2)(i), (h)(2)(ii), or (h)(2)(iii) of this AD, ends the repetitive inspections required by paragraph (h) of this AD for that MLG rib 5 only.

Note 1 to paragraph (h) of this AD: The ultrasonic inspection will detect any crack at an early stage and will limit the risk of extensive repairs. This earlier crack detection is not possible with the DVI.

(i) Retained Installation

This paragraph restates the requirements of paragraph (g) of AD 2012-08-03, Amendment 39-17019 (77 FR 24367, April 24, 2012), and applies to the airplanes identified in paragraph (j) of this AD. Within 30 months after May 29, 2012 (the effective date of AD 2012-08-03), install new bushes with increased interference fit in the gear rib 5 aft bearing forward lug on the LH and RH wings, in accordance with the Accomplishment Instructions of the applicable service bulletin specified in paragraph (i)(1), (i)(2), or (i)(3) of this AD; except as specified in paragraph (k) of this AD.

(1) Airbus Mandatory Service Bulletin A300-57-0249, Revision 03, dated January 18, 2012 (for Model A300 B4-2C, B4-103, and B4-203 airplanes).

(2) Airbus Mandatory Service Bulletin A300-57-6106, Revision 03, dated January 26, 2012 (for Model A300-600 series airplanes).

(3) Airbus Mandatory Service Bulletin A310-57-2090, Revision 03, dated January 23, 2012 (for Model A310 series airplanes).

(j) Affected Airplanes for the Actions Required by Paragraph (i) of This AD

For airplanes identified in paragraphs (j)(1), (j)(2), and (j)(3) of this AD: Do the actions required by paragraph (i) of this AD.

(1) Airbus Model A300 B4-2C, B4-103, and B4-203 airplanes; all serial numbers; except airplanes on which the MLG rib 5 forward lugs of the LH and RH wings have been repaired by installation of oversized interference fit bushes specified in Airbus Repair Instruction R57240221, or those on which the LH and RH wings have had Airbus Service Bulletin A300-57-0249 embodied in service.

(2) Airbus Model A300 B4-601, B4-603, B4-620, and B4-622 airplanes; Airbus Model A300 B4-605R and B4-622R airplanes; Airbus Model A300 F4-605R and F4-622R airplanes; and Airbus Model A300 C4-605R Variant F airplanes; all serial numbers; except airplanes on which the MLG rib 5 forward lugs of the LH and RH wings have been repaired by installation of oversized interference fit bushes specified in Airbus Repair Instruction R57240221, or those on which the LH and RH wings have had Airbus Service Bulletin A300-57-6106 embodied in service.

(3) Airbus Model A310-203, -204, -221, -222, -304, -322, -324, and -325 airplanes; all serial numbers; except airplanes on which the MLG rib 5 forward lugs of the LH and RH wings have been repaired by installation of oversized interference fit bushes specified in Airbus Repair Instruction R57249121, or those on which the LH and RH wings have had Airbus Service Bulletin A310-57-2090 embodied in service.

(k) Retained Exception for Airplanes Identified in Paragraphs (j)(1), (j)(2), and (j)(3) of This AD

This paragraph restates the requirements of paragraph (h) of AD 2012-08-03, Amendment 39-17019 (77 FR 24367, April 24, 2012), and applies to the airplanes identified in paragraphs (j)(1), (j)(2), and (j)(3) of this AD. If one wing had rib 5 forward lugs of the MLG repaired by installing oversized interference fit bushes, as specified in Airbus Repair Instruction R57240221 or Airbus Repair Instruction R572-49121, as applicable to the airplane model, then installing new bushes with increased interference fit in the aft bearing forward lug of the gear rib, as specified in paragraph (i) of this AD, is required for the opposite wing only.

(l) Retained Terminating Action for Certain Inspections

This paragraph restates the requirements of paragraph (i) of AD 2012-08-03, Amendment 39-17019 (77 FR 24367, April 24, 2012), and applies to the airplanes identified in paragraphs (j)(1), (j)(2), and (j)(3) of this AD. Installation of new bushes, as specified in paragraph (i) of this AD, is terminating action for the repetitive inspections required by AD 2007-03-18, Amendment 39-14929 (72 FR 5919, February 8, 2007); and by paragraphs (g) and (h) of this AD.

(m) Retained Repetitive Inspections

This paragraph restates the requirements of paragraph (g) of AD 2012-15-14, Amendment 39-17143 (77 FR 46937, August 7, 2012), and applies to the airplanes identified in paragraph (n) of this AD. Except as provided by paragraph (o) of this AD: Before the accumulation of 12,000 total flight cycles since new, or within 12,000 flight cycles since the most recent MLG rib 5 replacement, if applicable, or within 10 days after September 11, 2012 (the effective date of AD 2012-15-14, Amendment 39-17143 (77 FR 46937, August 7, 2012)), whichever occurs latest, do a detailed inspection or an ultrasonic inspection for cracking of the LH and RH MLG rib 5 aft bearing forward lugs, in accordance with the Accomplishment Instructions of Airbus Mandatory Service Bulletin A300-57-0251, including Appendix 01, dated August 8, 2007 (for Model A300 B4-103, B4-203, and B4-2C airplanes); or Airbus Mandatory Service Bulletin A300-57-6107, including Appendix 01, dated August 8, 2007 (for Model A300-600 series airplanes). Repeat the applicable inspections thereafter at the applicable interval specified in paragraph (m)(1) or (m)(2) of this AD, until the modification specified in paragraph (q) of this AD is accomplished.

(1) Repeat the detailed inspections at intervals not to exceed 100 flight cycles.

(2) Repeat the ultrasonic inspections at intervals not to exceed 675 flight cycles.

(n) Affected Airplanes for the Actions Required by Paragraph (m) of This AD

For Airbus Model A300 B4-2C, B4-103, and B4-203 airplanes; Model A300 B4-601, B4-603, B4-620, B4-622, B4-605R, B4-622R, F4-605R, and F4-622R airplanes; and Model A300 C4-605R Variant F airplanes; all serial numbers; except for airplanes identified in paragraphs (n)(1), (n)(2), and (n)(3) of this AD: Do the actions required by paragraph (m) of this AD, except as provided by paragraph (o) of this AD.

(1) Airplanes on which LH and RH wing MLG rib 5 forward lugs have oversized interference fit bushings installed per Airbus Repair Instruction R57240221.

(2) Model A300 B4-103, B4-203, and B4-2C airplanes on which Airbus Service Bulletin A300-57-0249 has been done in service on the LH and RH wings.

(3) Model A300-600 series airplanes on which Airbus Service Bulletin A300-57-6106 has been done in service on the LH and RH wings.

(o) Retained Exception for Certain Airplanes Identified in Paragraph (n) of This AD

This paragraph restates the requirements of paragraph (h) of AD 2012-15-14, Amendment 39-17143 (77 FR 46937, August 7, 2012), and applies to the airplanes identified in paragraph (n) of this AD on which an inspection required by AD 2007-03-18, Amendment 39-14929 (72 FR 5919, February 8, 2007), has been done as of September 11, 2012 (the effective date of AD 2012-15-14): Within 100 flight cycles after doing the most recent inspection required by AD 2007-03-18, or within 10 days after September 11, 2012, whichever occurs later, do a detailed or ultrasonic inspection as specified in paragraph (m) of this AD. Repeat the applicable inspection thereafter at the times specified in paragraph (m) of this AD.

(p) Retained Repair

This paragraph restates the requirements of paragraph (i) of AD 2012-15-14, Amendment 39-17143 (77 FR 46937, August 7, 2012), with specific delegation approval language. If any cracking is detected during any detailed or ultrasonic inspection of the LH and RH MLG rib 5 aft bearing forward lugs required by paragraph (m) of this AD, before further flight, repair using a method approved by Manager, International Branch, ANM-116, Transport Airplane Directorate, FAA; or the EASA; or Airbus's EASA DOA.

(q) Retained Optional Terminating Modification

This paragraph restates the optional terminating modification of paragraph (j) of AD 2012-15-14, Amendment 39-17143 (77 FR 46937, August 7, 2012), and applies to the airplanes identified in paragraph (n) of this AD. Performing the applicable actions specified in paragraphs (q)(1), (q)(2), (q)(3), and (q)(4) of this AD, in accordance with the Accomplishment Instructions of Airbus Mandatory Service Bulletin A300-57-0249, Revision 02, dated June 18, 2010 (for Model A300 B4-103, B4-203, and B4-2C airplanes); or Airbus Mandatory Service Bulletin A300-57-6106, Revision 03, dated January 26, 2012 (for Model A300-600 series airplanes); terminates the repetitive inspections required by paragraph (m) of this AD.

(1) Perform a general visual inspection and dye penetrant flaw detection inspection for corrosion and damage of the bore and spotfaces of the lug.

(2) Determine that the diameter of the bore of the lug (dimension Y) is within the tolerance specified in the Accomplishment Instructions of Airbus Mandatory Service Bulletin A300-57-0249, Revision 02, dated June 18, 2010 (for Model A300 B4-103, B4-203, and B4-2C airplanes); or Airbus Mandatory Service Bulletin A300-57-6106, Revision 03, dated January 26, 2012 (for Model A300-600 series airplanes).

(3) If damage or corrosion is detected during any inspection specified in paragraph (q)(1) of this AD, or if dimension Y is outside the tolerance specified in the Accomplishment Instructions of Airbus Mandatory Service Bulletin A300-57-0249, Revision 02, dated June 18, 2010 (for Model A300 B4-103, B4-203, and B4-2C airplanes); or Airbus Mandatory Service Bulletin A300-57-6106, Revision 03, dated January 26, 2012 (for Model A300-600 series airplanes); repair using a method approved by either the Manager, International Branch, ANM-116, Transport Airplane Directorate, FAA; or EASA; or Airbus's EASA DOA.

(4) Install bushings with an increased interference fit in the aft bearing forward lugs, in accordance with the Accomplishment Instructions of Airbus Mandatory Service Bulletin A300-57-0249, Revision 02, dated June 18, 2010 (for Model A300 B4-103, B4-203, and B4-2C airplanes); or Airbus Mandatory Service Bulletin A300-57-6106, Revision 03, dated January 26, 2012 (for Model A300-600 series airplanes).

(r) Retained Terminating Action for AD 2007-03-18, Amendment 39-14929 (72 FR 5919, February 8, 2007)

This paragraph restates the terminating action statement of paragraph (k) of AD 2012-15-14, Amendment 39-17143 (77 FR 46937, August 7, 2012), and applies to the airplanes identified in paragraph (n) of this AD. Doing the actions required by paragraph (q) of this AD terminates the inspections required by AD 2007-03-18, Amendment 39-14929 (72 FR 5919, February 8, 2007), for that airplane.

(s) Retained Reporting

This paragraph restates the requirements of paragraph (l) of AD 2012-15-14, Amendment 39-17143 (77 FR 46937, August 7, 2012), and applies to the airplanes identified in paragraph (n) of this AD. Submit a report (including both positive and negative findings), using the applicable report sheet attached to Airbus Mandatory Service Bulletin A300-57-0251, including Appendix 01, dated August 8, 2007 (for Model A300 B4-103, B4-203, and B4-2C airplanes); or Airbus Mandatory Service Bulletin A300-57-6107, including Appendix 01, dated August 8, 2007 (for Model A300-600 series airplanes); of the first inspection required by paragraph (m) of this AD. Submit the report to Airbus, Customer Services Directorate, 1 Rond Point Maurice Bellonte, 31707 Blagnac Cedex France, Attn: SEDCC1 Technical Data and Documentation Services; fax: (+33) 5 61 93 28 06; email: sb.reporting@airbus.com; at the applicable time specified in paragraph (s)(1) or (s)(2) of this AD.

(1) If the inspection was done on or after September 11, 2012 (the effective date of AD 2012-15-14, Amendment 39-17143 (77 FR 46937, August 7, 2012)): Submit the report within 30 days after the inspection.

(2) If the inspection was done before September 11, 2012 (the effective date of AD 2012-15-14, Amendment 39-17143 (77 FR 46937, August 7, 2012)): Submit the report within 30 days after September 11, 2012.

(t) New Repetitive Inspections

For airplanes identified in paragraph (u) of this AD: At the applicable time specified in paragraph (v)(1) or (v)(2) of this AD, do a detailed inspection for cracking, or an ultrasonic inspection for any crack indications of the LH and RH MLG rib 5 aft bearing forward lugs, in accordance with the Accomplishment Instructions of the applicable service bulletin specified in paragraph (t)(1), (t)(2), or (t)(3) of this AD. Repeat the inspection thereafter at intervals not to exceed the applicable time specified in paragraph (v)(3) or (v)(4) of this AD.

(1) Airbus Service Bulletin A300-57-0255, including Inspection Reporting Form, dated January 13, 2012 (for Model A300 B2-1A, B2-1C, B2K-3C, and B2-203 airplanes).

(2) Airbus Service Bulletin A300-57-6112, including Inspection Reporting Form, dated January 13, 2012 (for Model A300 B4-601, B4-603, B4-620, B4-622, B4-605R, B4-622R, F4-605R, and F4-622R airplanes).

(3) Airbus Service Bulletin A310-57-2101, including Inspection Reporting Form, dated January 13, 2012 (for Model A310-203, -204, -221, -222, -304, -322, -324, and -325 airplanes).

(u) Affected Airplanes for the Actions Required by Paragraph (t) of This AD

For airplanes on which any modification or repair described in the service bulletins identified in paragraph (u)(1), (u)(2), or (u)(3) of this AD, as applicable, has been accomplished in service; and for airplanes with MLG rib 5 already repaired as specified in Airbus Repair Instruction R57240221 or R572-49121, including any airplane with the MLG rib 5 forward lugs repaired on one wing; by installation of oversized interference fit bushes, as specified in Airbus Repair Instruction R57240221 or R572-49121, as applicable: Do the actions required by paragraph (t) of this AD.

(1) Airbus Service Bulletin A300-57-0249, dated May 22, 2007; Revision 01, dated December 19, 2007; or Airbus Mandatory Service Bulletin A300-57-0249, Revision 02, dated June 18, 2010 (for Model A300 B4-2C, B4-103, and B4-203 airplanes).

(2) Airbus Service Bulletin A300-57-6106, dated May 22, 2007; Revision 01, dated January 28, 2008; or Revision 02, dated June 18, 2010 (for Model A300 B4-601, B4-603, B4-605R, B4-620, B4-622, B4-622R, F4-605R, F4-622R, and C4-605R Variant F airplanes).

(3) Airbus Service Bulletin A310-57-2090, dated May 22, 2007; Revision 01, dated December 19, 2007; or Revision 02, dated June 18, 2010 (for Model A310 series airplanes).

(v) Compliance Times for Paragraph (t) of This AD

This paragraph specifies the compliance times for the actions specified in paragraph (t) of this AD.

(1) For airplanes identified in paragraph (c)(1) of this AD: Do the initial inspection required by paragraph (t) of this AD within 2,500 flight cycles after any modification or repair specified in paragraph (u) of this AD was done, or within 550 flight cycles after the effective date of this AD, whichever occurs later.

(2) For airplanes identified in paragraph (c)(2) of this AD: Do the initial inspection required by paragraph (t) of this AD within 2,500 flight cycles after any modification or repair specified in paragraph (u) of this AD was done, or within 775 flight cycles after the effective date of this AD, whichever occurs later.

(3) For airplanes identified in paragraph (c)(1) of this AD: For the repetitive inspection required by paragraph (t) of this AD, repeat the inspection within 550 flight cycles after any detailed inspection, and within 1,000 flight cycles after any ultrasonic inspection, as applicable.

(4) For airplanes identified in paragraph (c)(2) of this AD: For the repetitive inspection required by paragraph (t) of this AD, repeat the inspection within 775 flight cycles after any detailed inspection, and within 1,300 flight cycles after any ultrasonic inspection, as applicable.

(w) New Requirement of This AD: Report and Detailed Inspection

If, during any ultrasonic inspection required by paragraph (t) of this AD, any crack indication is detected: Before further flight, report to Airbus using the applicable report sheet attached to the applicable Airbus service bulletin specified in paragraph (t)(1), (t)(2), or (t)(3) of this AD, and concurrently accomplish a detailed inspection for cracking of the affected MLG rib 5 aft bearing forward lug, in accordance with the Accomplishment Instructions of the applicable Airbus service bulletin specified in paragraph (t)(1), (t)(2), or (t)(3) of this AD. Repeat the detailed inspection thereafter at intervals not to exceed 100 flight cycles.

(x) New Requirement of This AD: Cracking Repair

If any cracking is detected during any detailed inspection required by paragraph (t) or (w) of this AD: Before further flight, repair the cracking using a method approved by the Manager, International Branch, ANM-116, Transport Airplane Directorate, FAA; or the EASA; or Airbus's EASA DOA.

(y) New Requirement of This AD: Reporting

Submit a report (including both positive and negative findings), using the reporting sheet attached to the applicable Airbus service bulletin specified in paragraph (y)(1), (y)(2), or (y)(3) of this AD, of the first inspection required by paragraph (t) of this AD. Submit the report to Airbus, Customer Services Directorate, 1 Rond Point Maurice Bellonte, 31707 Blagnac Cedex France, Attn: SEDCC1 Technical Data and Documentation Services; fax: (+33) 5 61 93 28 06; email: sb.reporting@airbus.com. Submit the report within 30 days after the inspection or within 30 days after the effective date of this AD, whichever occurs later.

(1) Airbus Service Bulletin A300-57-0255, including Inspection Reporting Form, dated January 13, 2012 (for Model A300 B2-1A, B2-1C, B2K-3C, and B2-203 airplanes).

(2) Airbus Service Bulletin A300-57-6112, including Inspection Reporting Form, dated January 13, 2012 (for Model A300 B4-601, B4-603, B4-620, B4-622, B4-605R, B4-622R, F4-605R, and F4-622R airplanes).

(3) Airbus Service Bulletin A310-57-2101, including Inspection Reporting Form, dated January 13, 2012 (for Model A310-203, -204, -221, -222, -304, -322, -324, and -325 airplanes).

(z) Credit for Previous Actions

(1) This paragraph provides credit for actions required by paragraph (i) of this AD, if those actions were performed before May 29, 2012 (the effective date of AD 2012-08-03, Amendment 39-17019 (77 FR 24367, April 24, 2012)), using an applicable service bulletin specified in paragraph (z)(1)(i), (z)(1)(ii), or (z)(1)(iii) of this AD.

(i) For Model A300 B4-2C, B4-103, and B4-203 airplanes: The service bulletins are specified in paragraphs (z)(1)(i)(A), (z)(1)(i)(B), and (z)(1)(i)(C) of this AD.

(A) Airbus Service Bulletin A300-57-0249, dated May 22, 2007, which is not incorporated by reference in this AD.

(B) Airbus Service Bulletin A300-57-0249, Revision 01, dated December 19, 2007, which is not incorporated by reference in this AD.

(C) Airbus Mandatory Service Bulletin A300-57-0249, Revision 02, dated June 18, 2010, incorporated by reference in AD 2012-15-14, Amendment 39-17143 (77 FR 46937, August 7, 2012).

(ii) For Model A300 B4-601, B4-603, B4-620, B4-622, B4-605R, B4-622R, F4-605R, and F4-622R airplanes; and Model A300 C4-605R Variant F airplanes: The service bulletins are specified in paragraphs (z)(1)(ii)(A), (z)(1)(ii)(B), and (z)(1)(ii)(C) of this AD.

(A) Airbus Service Bulletin A300-57-6106, dated May 22, 2007, which is not incorporated by reference in this AD.

(B) Airbus Service Bulletin A300-57-6106, Revision 01, dated January 28, 2008, which is not incorporated by reference in this AD.

(C) Airbus Service Bulletin A300-57-6106, Revision 02, dated June 18, 2010, which is not incorporated by reference in this AD.

(iii) For Model A310 series airplanes: The service bulletins are specified in paragraphs (z)(1)(iii)(A), (z)(1)(iii)(B), and (z)(1)(iii)(C) of this AD.

(A) Airbus Service Bulletin A310-57-2090, dated May 22, 2007, which is not incorporated by reference in this AD.

(B) Airbus Service Bulletin A310-57-2090, Revision 01, dated December 19, 2007, incorporated by reference in AD 2008-17-02, Amendment 39-15640 (73 FR 47032, August 13, 2008).

(C) Airbus Service Bulletin A310-57-2090, Revision 02, dated June 18, 2010, which is incorporated by reference in this AD.

(2) This paragraph provides credit for actions required by paragraph (q) of this AD, if those actions were performed before September 11, 2012 (the effective date of AD 2012-15-14, Amendment 39-17143 (77 FR 46937, August 7, 2012)), using an applicable service bulletin specified in paragraphs (z)(2)(i), (z)(2)(ii), (z)(2)(iii), (z)(2)(iv), and (z)(2)(v) of this AD.

(i) For Model A300 B4-2C, B4-103, and B4-203: Airbus Service Bulletin A300-57-0249, dated May 22, 2007, which is not incorporated by reference in this AD.

(ii) For Model A300 B4-2C, B4-103, and B4-203: Airbus Service Bulletin A300-57-0249, Revision 01, dated December 19, 2007, which is not incorporated by reference in this AD.

(iii) For Model A300 B4-601, B4-603, B4-605R, B4-620, B4-622, B4-622R, F4-605R, F4-622R, and C4-605R Variant F airplanes: Airbus Service Bulletin A300-57-6106, dated May 22, 2007, which is not incorporated by reference in this AD.

(iv) For Model A300 B4-601, B4-603, B4-605R, B4-620, B4-622, B4-622R, F4-605R, F4-622R, and C4-605R Variant F airplanes: Airbus Service Bulletin A300-57-6106, Revision 01, dated January 28, 2008, which is not incorporated by reference in this AD.

(v) For Model A300 B4-601, B4-603, B4-605R, B4-620, B4-622, B4-622R, F4-605R, F4-622R, and C4-605R Variant F airplanes: Airbus Service Bulletin A300-57-6106, Revision 02, dated June 18, 2010, which is not incorporated by reference in this AD.

(aa) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; phone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2008-17-02, Amendment 39-15640 (73 FR 47032, August 13, 2008), are approved as AMOCs for the corresponding provisions of paragraphs (g) and (h) of this AD.

(iii) AMOCs approved previously for AD 2012-08-03, Amendment 39-17019 (77 FR 24367, April 24, 2012), are approved as AMOCs for the corresponding provisions of paragraphs (i), (j), (k), and (l) of this AD.

(iv) AMOCs approved previously for AD 2012-15-14, Amendment 39-17143 (77 FR 46937, August 7, 2012), are approved as AMOCs for the corresponding provisions of paragraphs (m) through (s) of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(bb) Related Information

(1) Refer to Mandatory Continuing Airworthiness Information (MCAI) EASA Airworthiness Directive 2012-0176, dated September 7, 2012, corrected September 20, 2012, for related information. You may examine the MCAI in the AD docket on the Internet at http://www.regulations.gov/#!documentDetail;D=FAA-2014-0142-0002.

(2) Service information identified in this AD that is not incorporated by reference in this AD is available at the addresses specified in paragraphs (cc)(9) and (cc)(10) of this AD.

(cc) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 17, 2015.

(i) Airbus Service Bulletin A300-57-0255, including Inspection Reporting Form, dated January 13, 2012.

(ii) Airbus Service Bulletin A300-57-6112, including Inspection Reporting Form, dated January 13, 2012.

(iii) Airbus Service Bulletin A310-57-2090, Revision 02, dated June 18, 2010.

(iv) Airbus Service Bulletin A310-57-2101, including Inspection Reporting Form, dated January 13, 2012.

(4) The following service information was approved for IBR on September 11, 2012 (77 FR 46937, August 7, 2012).

(i) Airbus Mandatory Service Bulletin A300-57-0249, Revision 02, dated June 18, 2010.

(ii) Airbus Mandatory Service Bulletin A300-57-0251, including Appendix 01, dated August 8, 2007.

(iii) Airbus Mandatory Service Bulletin A300-57-6106, Revision 03, dated January 26, 2012.

(iv) Airbus Mandatory Service Bulletin A300-57-6107, including Appendix 01, August 8, 2007.

(5) The following service information was approved for IBR on May 29, 2012 (77 FR 24367, April 24, 2012).

(i) Airbus Mandatory Service Bulletin A300-57-0249, Revision 03, dated January 18, 2012.

(ii) Airbus Mandatory Service Bulletin A310-57-2090, Revision 03, dated January 23, 2012.

(6) The following service information was approved for IBR on September 17, 2008 (73 FR 47032, August 13, 2008).

(i) Airbus Service Bulletin A310-57-2090, Revision 01, dated December 19, 2007.

(ii) Airbus Service Bulletin A310-57-2091, excluding Appendix 01, dated May 22, 2007.

(iii) Airbus A310 Repair Instruction R572-49121, Issue C, dated May 2007.

(7) The following service information was approved for IBR on February 6, 2007 (72 FR 2612, January 22, 2007).

(i) Airbus Service Bulletin A310-57A2088, excluding Appendix 01, dated November 6, 2006.

(ii) Reserved.

(8) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(9) You may view this service information at the FAA, Transport Airplane Directorate, 1601 Lind Avenue SW., Renton, WA. For information on the availability of this material at the FAA, call 425-227-1221.

(10) You may view this service information that is incorporated by reference at the National Archives and Records Administration (NARA). For information on the availability of this material at NARA, call 202-741-6030, or go to: http://www.archives.gov/federal-register/cfr/ibr-locations.html.

Issued in Renton, Washington, on January 21, 2015.
Jeffrey E. Duven,
Manager, Transport Airplane Directorate, Aircraft Certification Service.

[FR Doc. 2015-01710 Filed 2-9-15; 8:45 am]

BILLING CODE 4910-13-P